DEPARTMENT OF AGRICULTURE

Forest Service

Chequamegon-Nicolet National Forest, Wisconsin; Honey Creek-Padus Project

AGENCY: Forest Service, USDA.

ACTION: Notice of intent to prepare an environmental impact statement.

SUMMARY: The Forest Service will prepare an environmental impact statement (EIS) to document the analysis and disclose the environmental impacts of proposed land management activities and corresponding alternatives within the Honey Creek-Padus Project. The purpose of the Honey Creek-Padus Project is to implement land management activities that are consistent with direction in the Chequamegon-Nicolet National Forest 2004 Revised Land and Resource Management Plan and respond to the specific needs identified in the project area.

Honey Creek-Padus Project is located on National Forest System lands, administered by the Lakewood-Laona Ranger District, north of Wabeno, WI. The legal description of the project is Township 35 North, Range 14 and 15 East.

DATES: Comments concerning the scope of the analysis must be received by March 13, 2009. The draft environmental impact statement is expected in September 2009 and the final environmental impact statement is expected February 2010.

ADDRESSES: Send written comments concerning this project to Marilee Houtler, Attn: Honey Creek-Padus, Lakewood-Laona Ranger District, 15085 State Road 32, Lakewood, WI 54138. Comments may also be sent via e-mail to comments-eastern-chequamegon-nicolet-lakewood@fs.fed.us, or via facsimile to 715-276-3594.

Comments received in response to this solicitation, including names and addresses of those who comment, will be part of the public record for this proposed action. Comments submitted anonymously will be accepted and considered; however, anonymous comments will not provide the respondent with standing to appeal the subsequent decision.

FOR FURTHER INFORMATION CONTACT: Marilee Houtler, NEPA Coordinator (see address above), phone 715-276-6333.

Individuals who use telecommunication devices for the deaf (TDD) may call the Federal Information Relay Service (FIRS) at 1-800-877-8339 between 8 a.m. and 8 p.m., Eastern Time, Monday through Friday.

SUPPLEMENTARY INFORMATION: The information presented in this notice is included to help the reviewer determine if they are interested in or potentially affected by the proposed land management activities. The information presented in this notice is summarized. Those who wish to provide comments, or are otherwise interested in or affected by the project, are encouraged to obtain additional information from the contact listed above.

Purpose and Need for Action

The purpose and need for action by the agency is to address notable gaps between the existing vegetation and access conditions in the Honey Creek-Padus landscape and the desired conditions to be provided under the Chequamegon-Nicolet National Forest 2004 Land and Resource Management Plan. Of primary importance are needs for change in: (1) Uneven-aged northern hardwood age structure and density; (2) composition of aspen and hardwoods; and (3) species age class distribution. These are the dominant habitats in the Honey Creek-Padus Project area. Preliminary analysis of the project area indicates that there are certain conditions that warrant action to accomplish the direction and desired conditions identified in the forest plan.

Proposed Action

Based on the opportunities and needs outlined in the Purpose and Need section, the Forest Service proposes the following actions in the Honey Creek-Padus Project area: 6,703 acres of timber harvest to manage species age diversity, species composition, improve growing conditions, stand tending and reforestation, and access management. Implementation is planned for 2010.

Responsible Official

The responsible official for this project is Jeff Seefeldt, Lakewood-Laona District Ranger, Chequamegon-Nicolet National Forest.

Nature of Decision To Be Made

Decision making will be limited to specific activities relating to the proposed actions. The primary decision to be made will be whether or not to implement the proposed action, another action alternative, or parts of alternatives that respond to the project's purpose and need. This decision would be documented in a record of decision.

Preliminary Issues

Comments from American Indian tribes, the public, and other agencies will be considered in identifying preliminary issues.

Scoping Process

This notice of intent initiates the scoping process, which guides the development of the EIS. The 45 day comment period will start after the publication in the Federal Register of the Notice of Availability for the Honey Creek-Padus Project Draft EIS.

It is important that reviewers provide their comments at such times and in such manner that they are useful to the agency's preparation of the EIS. Therefore, comments should be provided prior to the close of the comment period and should clearly articulate the reviewer's concerns and contentions. The submission of timely and specific comments can affect a reviewer's ability to participate in subsequent administrative appeal or judicial review.

Dated: February 19, 2009.
Jeanne M. Higgins,
Forest Supervisor.

[FR Doc. E9-3992 Filed 2-24-09; 8:45 am]

BILLING CODE 3410-11-P